DEPARTMENT OF HEALTH AND HUMAN SERVICES

Centers for Disease Control and Prevention

[60-Day 12-0566]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call (404) 639-7570 and send comments to Tony Richardson, CDC Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of Worker Notification Program (0920-0566, Expiration 2/28/2011)—Reinstatement—National Institute for Occupational Safety and Health (NIOSH), Centers for Disease Control and Prevention (CDC).

Background and Brief Description

The National Institute for Occupational Safety and Health (NIOSH), under Section 20(a)(1), (a)(4), (a)(7)(c), and Section 22(d), (e)(5)(7) of the Occupational Safety and Health Act (29 U.S.C. 669), has the responsibility to conduct research relating to occupational safety and health relating to innovative methods, techniques, and approaches for dealing with occupational safety and health problems.

Since the Right to Know movement in the late 1970s, NIOSH has been developing methods and materials to notify subjects of its epidemiological studies. Within NIOSH, notifying workers of past exposures is done to inform surviving cohort members of findings from NIOSH studies. Current NIOSH policy dictates how and when worker notification should occur. The extent of the notification effort depends upon the level of excess mortality or the extent of the disease or illness found in the study population. Current notification efforts range from posting results at the facilities studied to mailing individual letters to surviving members of the study population and other stakeholders. Each year, the NIOSH Industrywide Studies Branch (IWSB), Division of Surveillance, Hazard Evaluation, and Field Studies (DSHEFS) typically prepares materials for two to three completed studies. This often requires individual letters be mailed to study populations ranging in size from 200-20,000 workers each. An evaluation instrument would gauge the effectiveness of notification materials and improve future communication of risk information.

The purpose of the proposed evaluation tool is to obtain feedback from workers that would improve the quality and usefulness of the Institute's worker notification activities. Researchers from NIOSH propose to routinely include a Reader Response postcard with notification materials to assess the value and usefulness of said materials. We are requesting approval for three years. Participation is voluntary. There are no costs to respondents other than their time.

Estimated Annualized Burden Hours
Form name | Number respondents | Number responses | Avg. burden per response (hours) | Total burden (hours)
Reader Response Card | 8,000 | 1 | 10/60 | 1,333
Total |  |  |  | 1,333

Kimberly S. Lane,
Reports Clearance Officer, Centers for Disease Control and Prevention.

[FR Doc. 2012-1670 Filed 1-25-12; 8:45 am]

BILLING CODE 4163-18-P